DEPARTMENT OF HEALTH AND HUMAN SERVICES

National Institutes of Health

National Institute of Allergy and Infectious Diseases; Notice of Informational Session

The National Institute of Allergy and Infectious Diseases announces that an informational Session for individuals representing groups considering submission of applications in response to NIAID's RFA number AI-04-045 (http://grants.nih.gov/grants/guide/rfa-files/RFA-AI-04-045.html), entitled “CENTERS FOR MEDICAL COUNTERMEASURES AGAINST RADIATION,” will be held on December 15, 2004, from 1 p.m. to 5 p.m. e.s.t.

The meeting will be held in Room 2C-13, 10401 Fernwood Drive, Bethesda, MD 20817. Staff from the NIH Centers for Medical Countermeasures Against Radiation Program and from the Division of Extramural Activities will provide information about the Program and how to apply and will be available to answer questions pertinent to preparing applications in response to this RFA. Advance registration is not required.

This meeting will also be available through a live broadcast allowing for questions from offsite locations. Please check http://videocast.nih.gov/FutureEvents.asp for videocast information regarding this event. A videotape of the meeting will be made available for future viewing at http://videocast.nih.gov/PastEvents.asp.

For questions or further information contact: Helen Quill, Ph.D., Basic Immunology Branch, Division of Allergy, Immunology and Transplantation, National Institute of Allergy and Infectious Diseases, Room 3013, MSC-6601, 6610 Rockledge Drive, Bethesda, MD 20892-6601, telephone: 301-496-7551, Fax: 301-480-2381, e-mail: hquill@niaid.nih.gov.

Dated: November 30, 2004.
Lynn C. Hellinger,
Associate Director for Management and Operations, NIAID.

[FR Doc. 04-26900 Filed 12-7-04; 8:45 am]

BILLING CODE 4140-01-M